DEPARTMENT OF HOUSING AND URBAN DEVELOPMENT

[Docket No. FR-7092-N 20; OMB Control No.: 2577-0218]

30-Day Notice of Proposed Information Collection: Indian Housing Block Grants (IHBG) Program

AGENCY: Office of Policy Development and Research, Chief Data Officer, HUD.

ACTION: Notice.

SUMMARY: HUD is seeking approval from the Office of Management and Budget (OMB) for the information collection described below. In accordance with the Paperwork Reduction Act, HUD is requesting comments from all interested parties on the proposed collection of information. The purpose of this notice is to allow for 30 days of public comment.

DATES: Comments Due Date: August 6, 2025.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function.

FOR FURTHER INFORMATION CONTACT: Anna Guido, Clearance Officer, Paperwork Reduction Act Division, PRAD, Department of Housing and Urban Development, 451 7th Street SW, Room 8210, Washington, DC 20410; email at Anna.P.Guido@hud.gov, telephone (202) 402-5535. This is not a toll-free number. HUD welcomes and is prepared to receive calls from individuals who are deaf or hard of hearing, as well as individuals with speech or communication disabilities. To learn more about how to make an accessible telephone call, please visit https://www.fcc.gov/consumers/guides/telecommunications-relay-service-trs. Copies of available documents submitted to OMB may be obtained from Ms. Guido.

SUPPLEMENTARY INFORMATION: This notice informs the public that HUD is seeking approval from OMB for the information collection described in Section A. The Federal Register notice that solicited public comment on the information collection for a period of 60 days was published on April 28, 2025 at 90 FR 17611.

A. Overview of Information Collection

Title of Information Collection: Indian Housing Block Grants (IHBG) Program.

OMB Approval Number: 2577-0218.

Type of Request: Reinstatement with change of previously approved collection.

Form Number: SF-424, SF-424D, SF-425, HUD-2880, HUD-4117, HUD 4117 Appendix A, HUD 4117 Appendix B, HUD 4117 Appendix C, HUD 4117 Appendix D, HUD-4119, HUD-4119 Appendix A, HUD-4119 Appendix B, HUD-4119 Appendix C, HUD-4119 Appendix D, HUD-4123, HUD-4125, HUD-52736-A, HUD-52736-B, HUD-52737 IHP-APR, HUD-52737 GEMS IHP/APR, HUD-53248 IHBG-COMP APR.

Description of the Need for the Information and Proposed Use

Description of the need for the information and proposed use: HUD's Office of Native American Programs (ONAP) will use the pre-award and post-award information collected to assess program compliance, monitor grantee performance throughout the grant term, and to report annually to Congress. ONAP is responsible for managing the IHBG Formula and IHBG Competitive programs, as described below.

IHBG Formula Program: The Native American Housing Assistance and Self-Determination Act of 1996 (25 U.S.C. 4101 et seq.) (NAHASDA) authorizes the IHBG Formula program. The program supports the development, management, and operation of affordable homeownership and rental housing; infrastructure development; and other forms of housing assistance intended for low-income persons. Federally recognized Native American tribes, Alaska Native villages, tribally designated housing entities, and a limited number of State-recognized tribes that were funded under the Indian Housing Program authorized by the U.S. Housing Act of 1937 are eligible to receive IHBG funds. Under the IHBG Formula Program, eligible recipients receive an equitable share of funds as appropriated by Congress.

IHBG Competitive Program: Since 2018, Congress has appropriated additional funding for the IHBG Competitive Grant (IHBG-COMP), also under assistance listing 14.867. IHBG-COMP prioritizes projects that increase the availability of affordable housing in Tribal communities with consideration to extent of need and administrative capacity. The regulations and requirements governing the IHBG formula program apply to the IHBG Competitive program. The IHBG-COMP Notices of Funding Opportunities (NOFO) are published on Grants.gov, where applicants submit applications.

Annual Reporting Burden: The annual reporting burden hours are based on the estimates provided below.

Information collection | Number of respondents | Frequency of response | Responses per annum | Burden hour per response | Annual burden hours | Hourly cost per response | Annual cost
Application for Federal Assistance SF-424 (2501-0044) | 300 | 1 | 1 | 0 | 0 | 0 | 0
Assurances for Construction Programs SF-424D (2501-0044) | 300 | 1 | 1 | 0 | 0 | 0 | 0
Federal Financial Report SF-425 (2501-0044) | 300 | 1 | 1 | 0 | 0 | 0 | 0
Applicant Disclosure Report HUD-2880 (2501-0044) | 300 | 1 | 1 | 0 | 0 | 0 | 0
HUD Applicant/Recipient Assurances and Certifications HUD-424 (2501-0044) | 300 | 1 | 1 | 0 | 0 | 0 | 0
Formula Response Form HUD-4117 | 500 | 1 | 500 | 2 | 1,000 | $45.14 | $45,140.00
Formula Response Form HUD-4117 Appendix A | 50 | 1 | 50 | 2 | 100 | 45.14 | 4,514.00
Formula Response Form HUD-4117 Appendix B | 50 | 1 | 50 | 2 | 100 | 45.14 | 4,514.00
Formula Response Form HUD-4117 Appendix C | 50 | 1 | 50 | 2 | 100 | 45.14 | 4,514.00
Formula Response Form HUD-4117 Appendix D | 50 | 1 | 50 | 2 | 100 | 45.14 | 4,514.00
Census Challenge Form HUD-4119 | 15 | 1 | 15 | 150 | 2,250 | 45.14 | 101,565.00
Census Challenge Form HUD-4119 Appendix A | 15 | 1 | 15 | 10 | 150 | 45.14 | 6,771.00
Census Challenge Form HUD-4119 Appendix B | 15 | 1 | 15 | 10 | 150 | 45.14 | 6,771.00
Census Challenge Form HUD-4119 Appendix C | 15 | 1 | 15 | 15 | 225 | 45.14 | 10,156.50
Census Challenge Form HUD-4119 Appendix D | 15 | 1 | 15 | 10 | 150 | 45.14 | 6,771.00
Cost Summary HUD-4123 | 300 | 1 | 300 | 40 | 12,000 | 45.14 | 541,680.00
Implementation Schedule HUD-4125 | 300 | 1 | 300 | 40 | 12,000 | 45.14 | 541,680.00
Depository Agreement, Bank Accounts HUD-52736-A | 15 | 1 | 15 | 1 | 15 | 45.14 | 677.10
Depository Agreement, Broker/Dealer HUD-52736-B | 15 | 1 | 15 | 1 | 15 | 45.14 | 677.10
HUD-52737 IHBG IHP-APR | 20 | 2 | 40 | 62 | 2,480 | 45.14 | 111,947.20
HUD-52737 GEMS IHBG IHP/APR | 370 | 2 | 740 | 62 | 45,880 | 45.14 | 2,071,023.20
HUD-53248 IHBG-COMP APR | 65 | 1 | 65 | 30 | 1,950 | 45.14 | 88,023.00
Record retention | 30 | 1 | 30 | 1 | 30 | 45.14 | 1,354.20
Totals | 3,390 | 25 | 2,280 | 442 | 78,695 | 45.14 | 3,552,292.30

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 2 of the Paperwork Reduction Act of 1995, 44 U.S.C. 3507.

Anna Guido,
Department Clearance Officer, Office of Policy Development and Research, Chief Data Officer.

[FR Doc. 2025-12590 Filed 7-3-25; 8:45 am]

BILLING CODE 4210-67-P